DEPARTMENT OF HOMELAND SECURITY

Coast Guard

[Docket No. USCG-2011-0674]

Recreational Vessel Accident Reporting

AGENCY: Coast Guard, DHS.

ACTION: Notice of Advisory Committee recommendations; request for additional public comments.

SUMMARY: The Coast Guard has received recommendations from the National Boating Safety Advisory Council (NBSAC) regarding potential ways to improve the recreational boating accident reporting process. NBSAC recommended that the Coast Guard: (1) Use a two-tiered reporting system for boating accidents; and (2) take steps to clarify what, how, and when information is reported. This notice solicits public comment on the NBSAC recommendations, as well as general public comment on the burden involved in reporting accidents, and other alternative means of reporting or collecting information.

DATES: Comments and related material must either be submitted to our online docket via http://www.regulations.gov on or before December 5, 2011 or reach the Docket Management Facility by that date.

ADDRESSES: You may submit comments identified by docket number USCG-2011-0674 using any one of the following methods:

(1) Federal eRulemaking Portal:http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Mr. Jeff Ludwig, Office of Auxiliary and Boating Safety, Boating Safety Division, Coast Guard; telephone 202-372-1061, e-mail jeffrey.a.ludwig@uscg.mil. If you have questions on viewing or submitting material to the docket, call Ms. Renee V. Wright, Program Manager, Docket Operations, telephone 202-366-9826.

SUPPLEMENTARY INFORMATION:

Public Participation and Request for Comments

We encourage you to submit comments and related material on the National Boating Safety Advisory Council (NBSAC) recommendations and related questions posed in this notice. All comments received will be posted, without change, to http://www.regulations.gov and will include any personal information you have provided.

Submitting comments: If you submit a comment, please include the docket number for this notice (USCG-2011-0674), and provide a reason for each suggestion or recommendation. You may submit your comments and material online, or by fax, mail, or hand delivery, but please use only one of these means. We recommend that you include your name and a mailing address, an e-mail address, or a telephone number in the body of your document so that we can contact you if we have questions regarding your submission.

To submit your comment online, go to http://www.regulations.gov, insert “USCG-2011-0674” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing comments and National Boating Safety Advisory Council recommendations: To view the comments and the National Boating Safety Advisory Council (NBSAC) recommendations, go to http://www.regulations.gov. In the “Keyword” box insert “USCG-2011-0674” and click “Search.” If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Basis and Purpose

In 2009, the National Boating Safety Advisory Council (NBSAC) recommended that the Coast Guard revise its accident reporting requirements. NBSAC is a Federal advisory committee under 5 U.S.C. App. (Pub. L. 92-463). It was established under authority of 46 U.S.C. 13110 and advises the Secretary of the Department of Homeland Security through the Coast Guard on boating safety regulations and other major boating safety matters.

The NBSAC recommendations were intended to help the Coast Guard improve the quality and timeliness of boating accident information. The Coast Guard relies on accident information provided by recreational boat operators to make decisions aimed at improving boating safety. This information, described in title 33 Code of Federal Regulations (CFR) parts 173 and 174, is often collected from the owner or operator of a vessel, who fills out a very detailed Coast Guard Boating Accident Report (BAR, form CG-3865) or a similar form provided by the State reporting authority. After an accident, the owner or operator of a vessel involved must:

• Report the accident to the appropriate State reporting authority within a specified timeframe; and

• Provide the information required in 33 CFR 173.57.

The State reporting authority is then required by 33 CFR 174.101 and 174.121 to:

• Review each report for accuracy and completeness;

• Determine the cause of the accident based on the available information; and

• Forward the accident report to the Coast Guard within 30 days of receiving the report.

The Coast Guard receives reports of boating accidents from the States and other sources and uses this information to meet its statutory responsibilities to promote the safety of the recreational vessel, its associated equipment, and the operator and passengers (see 46 U.S.C. Chapter 43). The Coast Guard also has a statutory obligation to publish statistics on boating safety (see 46 U.S.C. 6102). Each year, information received through the accident reporting system is compiled and published in a report entitled “Boating Statistics”, Commandant Publication (COMDTPUB) P16754 (series).

Unfortunately, many accidents are not reported, or the information provided by boat owners or operators is often inaccurate or incomplete and frequently becomes available to the Coast Guard long after an accident occurs. Incomplete, inaccurate, or late accident information makes ensuring safe boating conditions more difficult, and may indicate that the accident reporting system could be improved.

To address these issues, NBSAC recommended that the Coast Guard establish a two-tiered notification/reporting system that would ease the reporting burden on the owner or operator of a vessel, but would place more responsibilities on State reporting authorities. NSBAC also recommended a number of steps to be taken to clarify what, how, and when information is reported. The specific NBSAC recommendations can be found in the docket for this notice.

Through this notice and request for comments, the Coast Guard hopes to receive additional information from the public that will help us improve the quality and timeliness of boating accident information. Our goal is to receive information that will allow us to achieve the following:

• Reduce the accident reporting burden on the public;

• Increase the number of accidents reported to the State reporting authorities;

• Improve the timeliness of accident reports; and

• Increase the accuracy and completeness of reports forwarded by the State reporting authorities to the Coast Guard.

In this notice, we specifically seek information and public comments relating to the following questions:

1. Would the States support, and are some States already informally using, the two-tiered accident reporting system that NBSAC has recommended, with the boat operator providing a notification to the State (via local law enforcement, first responder, etc.) and the State reporting authority ensuring that a follow-up investigation is conducted?

2. Would the public support the two-tiered accident reporting system that NBSAC has recommended?

3. Would the two-tiered accident reporting system that NBSAC has recommended improve the number of accident reports received?

4. Would the two-tiered accident reporting system that NBSAC has recommended improve the accuracy of accident reports received?

5. Would the two-tiered accident reporting system that NBSAC has recommended improve the timeliness of accident reports received?

6. Would the two-tiered accident reporting system that NBSAC has recommended ease the burden of accident reporting on owners or operators of recreational vessels? If so, by how much?

7. Would the two-tiered accident reporting system that NBSAC has recommended increase the burden of accident reporting on State reporting authorities? If so, by how much?

8. Would any additional time (over the current system) be required for the owner/operator in a reporting system where the State had to contact him/her for information? If so, how many minutes of additional time per report would be required for the owner/operator?

9. Would any additional time (over the current system) and/or resources be required for a State employee to complete the report as opposed to the owner/operator? If so, how many minutes of additional time per report and/or what additional resources?

10. How many States currently use an electronic reporting system?

11. How many States are considering using an electronic reporting system?

12. Would the use of an Internet reporting system reduce the time required by the State to report information to the Coast Guard? If so, how many minutes of time per report would be saved?

13. Do any States collect data in addition to what is currently required in 33 CFR 173.57? If so, what additional information is collected?

14. How many boating accident report forms (BAR, CG-3865 or State equivalent forms) does a State receive from the public annually (approximately)?

15. How many boating accidents does a State investigate or cause to be investigated annually (approximately)?

16. How frequently (as a percentage) does a State collect data on an accident for which no BAR form is submitted by the public?

17. Under the current system, do States provide accident reporting information that is the responsibility of the recreational vessel owner or operator? If so, how many man-hours are required to collect this information (please give time as hours per week or month or as an average per accident report)?

18. If a State provides information that is the responsibility of the vessel owner or operator, what is the average time required by a State employee to complete the entire accident report form under the current system?

19. Under the current system, how much time does a State reporting authority spend validating the accident report submitted by a recreational vessel owner or operator (please give time as hours per week or month or as an average per accident report)?

20. Under the current system, what percentage of reports that a State receives from owner/operators are illegible or otherwise unintelligible? How many man-hours are currently required to address these problems (please give time as hours per week or month or as an average per accident report)?

21. Under the current system, when there is missing information from the owner/operator, what is the average amount of time that passes before a State employee is able to contact him/her in order to complete the report? (please give time as hours per week or month or as an average per accident report).

22. Do boat owners/operators have enough information or expertise to provide some or all of the accident reporting data currently required by them in 33 CFR 173.57?

23. What is the average time required for the owner/operator to complete the report under the current system?

24. Does the reporting of some or all of the accident reporting data currently required in 33 CFR 173.57 result in adverse consequences for owners/operators?

25. How can owners or operators of recreational vessels be encouraged to comply with boating accident reporting requirements?

26. What is a reasonable amount of time for a State reporting authority to submit a complete accident investigation report to the Coast Guard?

27. What percentage of a State's accident reports are reported to Coast Guard within 30/60/90 days? What are the significant factors that cause a report to be delayed beyond the 30 days?

28. What is a good definition of an injury that required medical treatment beyond first aid? Should the Occupational Safety and Health Administration (OSHA) standards for “medical treatment beyond first aid” be adopted as the standard for recreational boating injury reporting? (see 29 CFR 1904.7(b)(5) for the OSHA standards)

29. How should boating-related swimming incidents be defined? The NBSAC recommendation suggests that incidents where the vessel was being used as a swimming platform and/or a person voluntarily leaves the vessel as the first event, whether the vessel was underway or not, should not be considered reportable boating accidents, although it would continue counting incidents involving carbon monoxide poisoning, in-water electrical shock or other boat-related caused accidents.

This notice is issued under authority of 5 U.S.C. 552(a) and 33 CFR part 173.

Dated: August 26, 2011.
James A. Watson,
Rear Admiral, U.S. Coast Guard, Director of Prevention Policy.

[FR Doc. 2011-22630 Filed 9-2-11; 8:45 am]

BILLING CODE 9110-04-P